DEPARTMENT OF DEFENSE

Department of the Army

Availability for Non-Exclusive, Exclusive, or Partially Exclusive Licensing of U.S. Patents and Patent Applications Concerning Bacterial Superantigen Vaccines

Correction

In notice document 05-21068 beginning on page 61261 in the issue of Friday, October 21, 2005, make the following correction:

On page 61262, in the first column, in the seventh line from the top, “Application No. 10/757,687” should read “Application No. 10/767,687”.

[FR Doc. C5-21068 Filed 11-15-05; 8:45 am]

BILLING CODE 1505-01-D